OFFICE OF NATIONAL DRUG CONTROL POLICY

Meeting of the Advisory Commission on Drug Free Communities

AGENCY: Office of National Drug Control Policy.

ACTION: Notice of meeting.

SUMMARY: In accordance with the Drug-Free Communities Act, a meeting of the Advisory Commission on Drug Free Communities will be held on May 15-16, 2001 at the Office of National Drug Control Policy in the 5th Floor Conference Room, 750 17th Street NW., 7th Floor, Washington, DC. The meeting will commence at 1:00 p.m. on Tuesday, May 15, 2001 and adjourn for the evening at 5:30 p.m. The meeting will resume at 8:30 a.m. on Wednesday, May 16, 2001 conclude at 12:00 noon. The agenda will include: remarks by ONDCP Acting Director, Edward H. Jurith, a report by the Office of Juvenile Justice and Delinquency Prevention regarding the Drug Free Communities grant selection process; and discussion of reauthorization of the Drug Free Communities Act. There will be an opportunity for public comment from 11:00 a.m. until 11:30 on Wednesday, May 16, 2001.

FOR FURTHER INFORMATION CONTACT: Linda V. Priebe, (202) 395-6622.

Dated: April 19, 2001.
Linda V. Priebe,
Assistant General Counsel.

[FR Doc. 01-10423 Filed 4-25-01; 8:45 am]

BILLING CODE 3180-02-U